DEPARTMENT OF COMMERCE

National Oceanic and Atmospheric Administration

RIN 0648-XA160

Marine Mammals; File No. 15330

AGENCY: National Marine Fisheries Service (NMFS), National Oceanic and Atmospheric Administration (NOAA), Commerce.

ACTION: Notice; issuance of permit.

SUMMARY: Notice is hereby given that a permit has been issued to Robin Baird, PhD, Cascadia Research, 218½ W. 4th Avenue, Olympia, WA 98501 to take marine mammals in the Pacific Ocean for the purposes of scientific research.

ADDRESSES: The permit and related documents are available for review upon written request or by appointment in the following offices: See SUPPLEMENTARY INFORMATION.

FOR FURTHER INFORMATION CONTACT: Laura Morse or Carrie Hubard, (301) 427-8401.

SUPPLEMENTARY INFORMATION: On February 25, 2011, notice was published in the Federal Register (76 FR 10560) that a request for a permit to conduct research on forty species of cetaceans and unidentified mesoplodon and baleen species in all U.S. and international waters in the Pacific Ocean, including Alaska, Washington, Oregon, California, Hawaii, and other U.S. territories had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

Authorized research will include harassment of 40 cetacean species through vessel approach for sighting surveys, photographic identification, behavioral research, opportunistic sampling (breath, sloughed skin, fecal material, and prey remains), and aerial over-flights for the purpose of locating animals and conducting aerial validation studies. All cetacean species (except harbor porpoise (Phocoena phocoena), right whales (Eubalaena japonica), and Cook Inlet beluga whales (Delphinapterus leucas)) and unidentified mesoplodon and baleen species will be targeted for dart and/or suction-cup tagging. Import and export of marine mammal prey specimens, sloughed skin, fecal and breath samples obtained is authorized. Seven species of pinnipeds may be incidentally harassed during research activities. The permit is valid until August 1, 2016.

An environmental assessment (EA) was prepared analyzing the effects of the permitted activities on the human environment in compliance with the National Environmental Policy Act of 1969 (42 U.S.C. 4321 et seq.). Based on the analyses in the EA, NMFS determined that issuance of the permit would not significantly impact the quality of the human environment and that preparation of an environmental impact statement was not required. That determination is documented in a Finding of No Significant Impact (FONSI), signed on July 26, 2011.

As required by the ESA, issuance of this permit was based on a finding that such permit: (1) Was applied for in good faith; (2) will not operate to the disadvantage of such endangered species; and (3) is consistent with the purposes and policies set forth in section 2 of the ESA.

Documents may be reviewed in the following locations:

Permits, Conservation and Education Division, Office of Protected Resources, NMFS, 1315 East-West Highway, Room 13705, Silver Spring, MD 20910; phone (301) 713-2289; fax (301) 427-2521;

Northwest Region, NMFS, 7600 Sand Point Way, NE., BIN C15700, Bldg. 1, Seattle, WA 98115-0700; phone (206) 526-6150; fax (206) 526-6426;

Alaska Region, NMFS, P.O. Box 21668, Juneau, AK 99802-1668; phone (907) 586-7221; fax (907) 586-7249;

Southwest Region, NMFS, 501 West Ocean Blvd., Suite 4200, Long Beach, CA 90802-4213; phone (562) 980-4001; fax (562) 980-4018; and

Pacific Islands Region, NMFS, 1601 Kapiolani Blvd., Rm 1110, Honolulu, HI 96814-4700; phone (808) 973-2935; fax (808) 973-2941.

Dated: August 1, 2011.
P. Michael Payne,
Chief, Permits, Conservation and Education Division, Office of Protected Resources, National Marine Fisheries Service.

[FR Doc. 2011-20075 Filed 8-5-11; 8:45 am]

BILLING CODE 3510-22-P